DEPARTMENT OF COMMERCE

National Oceanic and Atmospheric Administration

[I.D. 121404C]

Endangered Species; File No. 1508

AGENCY: National Marine Fisheries Service (NMFS), National Oceanic and Atmospheric Administration (NOAA), Commerce.

ACTION: Receipt of application for permit.

SUMMARY: Notice is hereby given that Duke Power Company (Mr. Gene Vaughan, Principal Investigator), 13339 Hagers Ferry Rd., Huntersville, NC 28078, has applied in due form for a permit for scientific research on shortnose sturgeon (Acipenser brevirostrum).

DATES: Written or telefaxed comments must be received on or before January 27, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and,

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1508.

FOR FURTHER INFORMATION CONTACT: Jennifer Jefferies or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

As part of the Federal Energy Regulatory Commission's 2008 relicensing of Duke Power's Catawba-Wateree Hydropower Project, various environmental studies will be conducted in the years prior to comply with the Electric Consumer's Protection Act of 1986. One particular study would determine the use of the Wateree River and a section of the Congaree River near Columbia, SC as spawning grounds by certain diadromous fish species including shortnose sturgeon. Duke Power Company seeks authorization to sample shortnose sturgeon in the Wateree and Congaree Rivers in South Carolina. Annually, up to 10 fish would be captured via gill nets, trap nets, and electrofishing; measured; weighed; scanned for PIT tags; and subsequently released. This research would be conducted for five years from issuance of the permit.

Dated: December 21, 2004.
Jennifer Skidmore,
Acting, Chief, Permits, Conservation and Education Division, Office of Protected Resources, National Marine Fisheries Service.

[FR Doc. 04-28367 Filed 12-27-04; 8:45 am]

BILLING CODE 3510-22-S